DEPARTMENT OF THE INTERIOR

National Park Service

[N6746; NPS-WASO-NAGPRA-NPS0041465; PPWOCRADN0-PCU00RP14.R50000]

Notice of Inventory Completion: Department of Anthropology, University of South Florida, Tampa, FL, and Florida Department of State, Tallahassee, FL

AGENCY: National Park Service, Interior.

ACTION: Notice.

SUMMARY: In accordance with the Native American Graves Protection and Repatriation Act (NAGPRA), the Department of Anthropology, University of South Florida and the Florida Department of State (FDOS) has completed an inventory of human remains and has determined that there is a cultural affiliation between the human remains and Indian Tribes or Native Hawaiian organizations in this notice.

DATES: Repatriation of the human remains in this notice may occur on or after January 20, 2026.

ADDRESSES: Send written requests for repatriation of the human remains in this notice to Thomas J. Pluckhahn, Department of Anthropology, University of South Florida, 4202 E Fowler Avenue, SOC 107, Tampa, FL 33620-8100, email tpluckhahn@usf.edu and Tea Kaplan, Florida Department of State, 2100 W Tennessee Street, Tallahassee, FL 32304, email Tea.Kaplan@dos.fl.gov.

SUPPLEMENTARY INFORMATION: This notice is published as part of the National Park Service's administrative responsibilities under NAGPRA. The determinations in this notice are the sole responsibility of the Department of Anthropology, University of South Florida and the FDOS and additional information on the determinations in this notice, including the results of consultation, can be found in its inventory or related records. The National Park Service is not responsible for the determinations in this notice.

Abstract of Information Available

Human remains representing, at least, one individual have been identified in the collections from the Crystal River site (8CI1), in Citrus County, Florida. No associated funerary objects are present. The Crystal River site is a National Historic Landmark, preserved today on the property of Crystal River Archaeological State Park. The remains were excavated in 2013 by Dr. Thomas Pluckhahn of the University of South and were identified during a recent re-inventory of the collection. Crystal River dates to the Middle and Late Woodland periods, from around 1,500 to 1,000 years before present. We are not aware of the presence of any potentially hazardous substances used to treat any of the human remains.

Human remains representing, at least, one individual have been identified in the collections from the Roberts Island site (8CI41), in Citrus County, Florida. No associated funerary objects are present. The site is located on Crystal River Preserve State Park. The remains were excavated in 2013 by Dr. Thomas Pluckhahn of the University of South Florida and were identified during a recent re-inventory of the collection. Roberts Island dates to the Late Woodland period, from around 1,250 to 1,000 years before present. We are not aware of the presence of any potentially hazardous substances used to treat any of the human remains.

Both collections were excavated under a FDOS permit, and FDOS retains legal control of this collection. Physical custody is held by the Department of Anthropology, University of South Florida.

Cultural Affiliation

Based on the information available and the results of consultation, cultural affiliation is reasonably identified by the geographical location or acquisition history of the human remains described in this notice.

Determinations

The Department of Anthropology, University of South Florida and FDOS have determined that:

• The human remains described in this notice represent the physical remains of two individuals of Native American ancestry.

• There is a connection between the human remains described in this notice and the Miccosukee Tribe of Indians; Seminole Tribe of Florida; and The Seminole Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, the Department of Anthropology, University of South Florida and FDOS must determine the most appropriate requestor prior to repatriation. Requests for joint repatriation of the human remains are considered a single request and not competing requests. The Department of Anthropology, University of South Florida and FDOS are responsible for sending a copy of this notice to the Indian Tribes and Native Hawaiian organizations identified in this notice and any other consulting parties.

Authority: Native American Graves Protection and Repatriation Act, 25 U.S.C. 3003, and the implementing regulations, 43 CFR 10.10.

Dated: November 25, 2025.
Melanie O'Brien,
Manager, National NAGPRA Program.

[FR Doc. 2025-23147 Filed 12-17-25; 8:45 am]

BILLING CODE 4312-52-P